DEPARTMENT OF HEALTH AND HUMAN SERVICES

Centers for Disease Control and Prevention

[30Day-08-08AJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Focus Group Testing to Effectively Plan and Tailor Cancer Prevention and Control Communication Campaigns—New—Division of Cancer Prevention and Control (DCPC), National Center for Chronic Disease Prevention and Health Promotion (NCCDPHP), Centers for Disease Control and Prevention (CDC).

Background and Brief Description

The mission of CDC's Division of Cancer Prevention and Control (DCPC) is to reduce the burden of cancer in the United States through cancer prevention, reduction of risk, early detection, better treatment, and improved quality of life for cancer survivors. Toward this end, DCPC supports the scientific development, implementation, and evaluation of various health communication campaigns with an emphasis on specific cancer burdens. This process requires testing of messages, concepts, and materials prior to their final development and dissemination.

CDC requests OMB approval of a generic information collection request to develop and test cancer prevention and control messages, including, but not limited to, colorectal and gynecologic cancers. Because communication campaigns will vary according to the type of cancer, qualitative dimensions of the message, and the type of respondents, DCPC has developed a reference set of questions that can be tailored for use in a variety of focus group-based information collections. The discussion guide for each focus group will be drawn from the reference set of pre-approved questions.

Insights gained from the focus groups will assist in the development and/or refinement of messages and materials to ensure that the general public and other key audiences clearly understand the messages and are motivated to adopt the desired action. Screening information will be collected from potential respondents in order to identify those who represent key audiences for specific messages.

The average burden for participating in a focus group discussion will be two hours. Over a three-year period, DCPC will conduct or sponsor up to 72 focus groups per year with an average of 12 respondents each. There are no costs to respondents except their time. The total estimated annualized burden hours are 1,814.

Estimated Annualized Burden Hours
Type of respondents | Form name | Number of respondents | Number of responses per respondent | Average burden per response (in hours)
General Public | Screening Form | 1,382 | 1 | 3/60
| Focus Group Guide | 691 | 1 | 2
Health Care Providers | Screening Form | 346 | 1 | 3/60
| Focus Group Guide | 173 | 1 | 2

Dated: August 5, 2008.
Maryam I. Daneshvar,
Acting Reports Clearance Officer, Centers for Disease Control and Prevention.

[FR Doc. E8-18817 Filed 8-13-08; 8:45 am]

BILLING CODE 4163-18-P